DEPARTMENT OF ENERGY

Federal Energy Regulatory Commission

[Project No. 2634-007]

Great Northern Paper, Inc.; Availability of Draft Environmental Assessment

April 24, 2001.

In accordance with the National Environmental Policy Act of 1969 and the Federal Energy Regulatory Commission's (Commission) regulations, 18 CFR part 380 (Order No. 486, 52 FR 47897), the Office of Energy Projects has reviewed the application for a new license for the existing and operating Storage Project, located on Ragged Stream, Caucomgomoc Stream, West Branch and South Branch of the Penobscot River in the Counties of Somerset and Piscataquis, Maine and has prepared a Draft Environmental Assessment (EA) for the project.

Copies of the EA are available for review in the Public Reference Branch, Room 2-A, of the Commission's offices at 888 First Street, NE., Washington, DC 20426. The EA may also be viewed on the web at http://www.ferc.us/online/rims.htm. Please call (202) 208-2222 for assistance.

Any comments should be filed within 30 days from the date of this notice and should be addressed to David P. Boergers, Secretary, Federal Energy Regulatory Commission, 888 First Street, NE., Room 1-A, Washington, DC 20426. Comments, protests and interventions may be filed electronically via the internet in lieu of paper. See, 18 CFR 385.2001(a)(1)(iii) and the instructions on the Commission's web site at http://www.ferc.fed.us/efi/doorbell.htm.

Please affix “Storage Project No. 2634-007” to the top page of all comments. For further information, contact John Costello at (202) 219-2914 or john.costello@ferc.fed.us.

David P. Boergers,
Secretary.

[FR Doc. 01-10585 Filed 4-27-01; 8:45 am]

BILLING CODE 6717-01-M